DEPARTMENT OF TRANSPORTATION

Coast Guard

[USCG-2001-10066]

Define Inflatable Liferafts as Associated Equipment for Recreational Vessels

AGENCY: Coast Guard, DOT.

ACTION: Notice; request for comments.

SUMMARY: The National Boating Safety Advisory Council (NBSAC) recommended that the Coast Guard (we) extend the application of our existing authority so that, when necessary, we can recall defective inflatable liferafts carried on recreational vessels. We would like your comments to help us determine the current extent of any problems with inflatable liferafts. Comments received will help us fully evaluate the NBSAC recommendation.

DATES: Comments and related material must reach the Docket Management Facility on or before October 11, 2001.

ADDRESSES: To make sure your comments and related material are not entered more than once in the docket, please submit them by only one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice, contact Rick Gipe, Project Manager, Office of Boating Safety, telephone 202-267-0985, e-mail rgipe@comdt.uscg.mil. If you have questions on viewing or submitting material to the docket, call Dorothy Beard, Chief, Dockets, Department of Transportation, telephone 202-366-5149.

You may obtain a copy of this notice by calling the U.S. Coast Guard Infoline at 1-800-368-5647 or read it on the Internet at the Web Site for the Office of Boating Safety at http://www.uscgboating.org or at http://dms.dot.gov.

SUPPLEMENTARY INFORMATION:

Background

Under 46 U.S.C. 4310, manufacturers of recreational boats and certain items of associated equipment identified by regulation must notify owners and recall and repair or replace their products when the products either fail to comply with an applicable Coast Guard safety standard or contain defects that create a substantial risk of personal injury to the public. The defect-notification regulations in 33 CFR part 179 currently apply to the following items of designated associated equipment: (1) An inboard engine, (2) an outboard engine, (3) a stern drive unit, and (4) an inflatable personal flotation device approved under 46 CFR 160.076.

By law, the Coast Guard Office of Boating Safety is required to consult with the National Boating Safety Advisory Council (NBSAC) in prescribing regulations and regarding other major boating safety matters. NBSAC is made up of 21 members: Seven from the boating industry, seven who are State boating officials, and seven who represent national boating organizations or the general public.

At a May 2000 meeting, a NBSAC member, who is also an inflatable boat and liferaft manufacturer, briefed the council about problems with the construction of certain inflatable liferafts typically carried by recreational boaters. Liferafts that do not deploy properly, e.g., fail to inflate or fail to maintain inflation, are a danger to recreational boaters who depend upon them as a safety device. We informed NBSAC that, unlike Coast Guard approved liferafts which are required to be carried on commercial vessels, the liferafts typically carried by recreational boaters are not constructed to any specific standard and do not fall within the Coast Guard's existing recall authority. Therefore, NBSAC passed a resolution urging the Coast Guard to consider making inflatable liferafts carried on recreational vessels an additional item of designated associated equipment subject to the existing defect-notification requirements.

Questions

To assist us in considering NBSAC's resolution, we ask for your comments, particularly in response to the following questions:

1. What data or studies are available indicating failure rates or failure modes for inflatable liferafts carried on recreational vessels?

2. What types of defects in the construction of inflatable liferafts carried on recreational vessels should be considered severe enough to require a manufacturer to conduct defect notification?

3. What are the economic and other impacts on inflatable liferaft manufacturers if the Coast Guard were to require those companies to notify owners and to recall and repair or replace defective liferafts that contain defects that create a substantial risk of personal injury to the public?

4. Would the designation of inflatable liferafts carried on recreational vessels as “associated equipment” place an inappropriate and inconsistent burden on manufacturers in relation to other items of “associated equipment?” Why or why not?

5. The Coast Guard is mindful of the potential adverse impacts on small business entities. The term “small entities” comprises small businesses, not-for-profit organizations that are independently owned and operated and are not dominant in their fields, and governmental jurisdictions with populations of less than 50,000. To what extent are small entities engaged in the manufacture of inflatable liferafts carried on recreational vessels?

6. How many companies are currently manufacturing inflatable liferafts for use on recreational vessels?

7. In order to properly designate inflatable liferafts carried on recreational vessels as “associated equipment,” we request your suggestions on how to define these liferafts so as to distinguish them from similar equipment, such as inflatable buoyant apparatus for merchant vessels approved under 46 CFR 160.010-3, inflatable liferafts for domestic service approved under 46 CFR part 160, subpart 160.051, SOLAS inflatable liferafts approved under 46 CFR part 160, subpart 160.151, and water toys used at beaches and in swimming pools. In other words, how should we define the term “inflatable liferaft carried on recreational vessels”?

8. U.S. manufacturers and importers of recreational boats and designated associated equipment are required by law to maintain first purchaser lists and conduct recalls when their products fail to comply with an applicable Coast Guard safety standard or contain substantial risk defects. However, currently we have no legal authority over foreign manufacturers of inflatable liferafts carried on recreational vessels. How could we ensure that foreign manufacturers of inflatable liferafts carried on recreational vessels would be legally responsible for the safety of their products?

9. What other information about boating accidents involving the use of inflatable liferafts carried on recreational vessels should we consider?

Request for Comments

We encourage you to participate in this request for comments by submitting comments and related material and answering the above questions. If you do so, please include your name and address, identify the docket number for this notice (USCG-2001-10066), indicate by number each question you are answering, and give the reason for each comment. You may submit your comments and material by mail, hand-delivery, fax, or electronic means to the Docket Management Facility at the address under ADDRESSES; but please submit your comments and material by only one means. If you submit them by mail or hand-delivery, submit them in an unbound format, no larger than 8½ by 11 inches, suitable for copying and electronic filing. If you submit them by mail and would like to know they reached the Facility, please enclose a stamped, self-addressed postcard or envelope. We will consider all comments and material received during the comment period. Your comments will help us to determine whether to initiate a rulemaking in response to the NBSAC resolution.

Public Meeting

We do not now plan to hold a public meeting. But you may submit a request for one to the Docket Management Facility at the address under ADDRESSES explaining why one would be beneficial. If we determine that one would aid the consideration of the NBSAC resolution, we will hold one at a time and place announced by a later notice in the Federal Register.

Dated: July 6, 2001.
Kenneth T. Venuto,
Rear Admiral, U.S. Coast Guard, Director of Operations Policy.

[FR Doc. 01-17570 Filed 7-12-01; 8:45 am]

BILLING CODE 4910-15-P